ENVIRONMENTAL PROTECTION AGENCY

[FRL OP-OFA-019]

Environmental Impact Statements; Notice of Availability

Responsible Agency: Office of Federal Activities, General Information 202-564-5632 or https://www.epa.gov/nepa.

Weekly receipt of Environmental Impact Statements (EIS)

Filed May 27, 2022 10 a.m. EST Through June 6, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220074, Final, CHSRA, CA, California High-Speed Rail Authority San Francisco to San Jose Project Section Final Environmental Impact Report/Environmental Impact Statement, Review Period Ends: 07/11/2022, Contact: Scott Rothenberg 916-403-6936.

EIS No. 20220075, Final, USCG, PRO, Offshore Patrol Cutter Acquisition Program, Review Period Ends: 07/11/2022, Contact: Andrew Haley 202-372-1821.

EIS No. 20220076, Draft, USACE, TX, Proposed Corpus Christi Ship Channel Deepening Project, Comment Period Ends: 07/25/2022, Contact: Jayson M Hudson 409-766-3108.

EIS No. 20220077, Draft, USFS, CA, Meeks Bay Restoration, Comment Period Ends: 08/09/2022, Contact: Ashley Sibr 530-543-2615.

Dated: June 6, 2022.
Cindy S. Barger,
Director, NEPA Compliance Division, Office of Federal Activities.

[FR Doc. 2022-12537 Filed 6-9-22; 8:45 am]

BILLING CODE 6560-50-P